DEPARTMENT OF HEALTH AND HUMAN SERVICES

National Institutes of Health

Notice of Meeting: DHHS Chronic Fatigue Syndrome Coordinating Committee

In accordance with section 10(a) of the Federal Advisory Committee Act, as amended (5 U.S.C., Appendix 2), notice is hereby given of a meeting of the DHHS Chronic Fatigue Syndrome Coordinating Committee.

Name: Department of Health and Human Services (DHHS) Chronic Fatigue Syndrome Coordinating Committee (CFSCC).

Time and Date: Wednesday, July 12, 2000, from 9 a.m. to 3:30 p.m.

Place: Hubert H. Humphrey Building, Room 800, 200 Independence Avenue, SW, Washington, DC 20201.

Status: Open to the public, limited only by the space available. The meeting room will accommodate approximately 100 people. Individuals who plan to attend and need special assistance, such as sign language interpretation or other reasonable accommodations, should notify the Contact Person listed below in advance of the meeting.

Notice: In the interest of security, the Department has instituted stringent procedures for entrance to the Hubert H. Humphrey Building by non-government employees. Thus, persons without a government identification card will need to provide a photo ID and must know the subject and room number of the meeting in order to be admitted into the building. Visitors must use the Independence Avenue entrance.

Purpose: The Committee is charged with providing advice to the Secretary, the Assistant Secretary for Health, and the Commissioner, Social Security Administration (SSA), to assure interagency coordination and communication regarding chronic fatigue syndrome (CFS) research and other related issues; facilitating increased DHHS and agency awareness of CFS research and educational needs; developing complementary research programs that minimize overlap; identifying opportunities for collaborative and/or coordinated efforts in research and educational; and developing informed responses to constituency groups regarding DHHS and SSA efforts and progress.

Matters To Be Discussed: The meeting will have, as its sole focus, a discussion of the forthcoming General Accounting Office report on CFS research activities at NIH and CDC and the role of the DHHS CFSCC. Because this is a briefing session, there will be no public testimony.

Contact Person for More Information: Janice C. Ramsden, Executive Secretary, CFSCC, Office of the Acting Director, NIH, Building 1, Room 235, 1 Center Drive, MSC 0159, Bethesda, Maryland 20892-0159, e-mail jr52h@nih.gov or telephone 301-496-0959.

Dated: May 16, 2000.
LaVerne Stringfield,
Director, Office of Advisory Committee Policy.

[FR Doc. 00-12898 Filed 5-22-00; 8:45 am]

BILLING CODE 4140-01-M